DEPARTMENT OF THE TREASURY

Bureau of Alcohol, Tobacco and Firearms

[Notice No. 899]

The Gang Resistance Education and Training Program: Availability of Financial Assistance, Criteria and Application Procedures

AGENCY: Bureau of Alcohol, Tobacco and Firearms (ATF), Department of the Treasury.

ACTION: Notice of availability of funds for financial assistance to State and local law enforcement agencies providing or desiring to provide the Gang Resistance Education and Training Program, intended funding priorities, and application procedures.

SUMMARY: Subject to the availability of appropriations, the Bureau of Alcohol, Tobacco and Firearms (ATF) intends to enter into cooperative agreements with State and local law enforcement agencies to assist them in providing the Gang Resistance Education and Training (G.R.E.A.T.) Program. This notice also sets forth the intended funding priorities and the criteria and application procedures that ATF will use to select and award State and local law enforcement agencies Federal funds to provide the G.R.E.A.T. Program.

DATES: Applications must be received on or before August 10, 2000.

ADDRESSES: Send applications to G.R.E.A.T. Branch; Bureau of Alcohol, Tobacco and Firearms; P.O. Box 50418; Washington, DC 20091-0418; Attn: Notice No. 899.

FOR FURTHER INFORMATION CONTACT: James Scott, G.R.E.A.T. Branch, Bureau of Alcohol, Tobacco and Firearms, P.O. Box 50418, Washington, DC 20091-0418 (1-800-726-7070); or by sending electronic mail (E-mail) to: Great@atfhq.atf.treas.gov, or visit the G.R.E.A.T. website at www.atf.treas.gov/great/great.htm.

SUPPLEMENTARY INFORMATION:

Background

G.R.E.A.T. is a gang prevention program designed to educate the youth about the dangers associated with joining street gangs and participating in violent crime. It functions as a cooperative program that utilizes the skills of ATF, Federal, State and local law enforcement personnel, as well as individuals from the community and civic groups. The G.R.E.A.T. Program trains police officers to provide instruction to grade and middle school aged children in gang prevention and anti-violence techniques. Training may be provided to any Federal, State, or local law enforcement agency, to the extent allocated funds allow. G.R.E.A.T. consists of three major components:

Component I: School-Based Education

Component II: After School/Summer Education/Booster Classes

Component III: Parent Involvement

Although the primary focus of the G.R.E.A.T. Program is Component I, applicants who are selected for financial assistance will be required to develop programs tailored to their respective communities for Components II and III.

Application Procedures

Application for financial assistance shall be made on ATF Form 6410.1 (Gang Resistance Education and Training Funding Application). Application forms may be obtained by contacting James Scott, G.R.E.A.T. Branch, Bureau of Alcohol, Tobacco and Firearms, P.O. Box 50418, Washington, DC 20091-0418 (1-800-726-7070). E-mail address: Great@atfhq.atf.treas.gov or visit the G.R.E.A.T. website at www.atf.treas.gov/great/great.htm.

Funding Categories and Funding Distributions

In order to provide funding to a range of community sizes and locations, the applicants will be divided into five categories based on population. These categories will consist of populations: (A) 1,000,000 and over; (B) 500,000-999,999; (C) 100,000-499,999; (D) 25,000-99,999; (E) 24,999 or less. Each applicant will be required to report its population figures by using the Bureau of Census State Population Report for its entire service area. The population figures may be obtained from the Census Bureau's website: www.census.gov/population/www/estimates or contacting the Census Bureau at 301-457-2422.

Criteria and Points

Each application will be evaluated and scored on the basis of the following criteria: (1) Juvenile crime statistics—(40%); (2) Percentage of middle school students proposed to be taught and have been taught—(25%); (3) Presence of curriculum reinforcement programs (Elementary, middle and high school life-skills programs, as well as summer, family and after school programs. Community partnerships will also be reviewed.)—(25%); (4) Support of National G.R.E.A.T. Program training—(10%).

Criterion 1. This criterion is designed to measure the magnitude of an applicant's youth crime problem. This criterion will utilize the Uniform Crime Reports (UCR) for the United States that are published annually by the Federal Bureau of Investigation (FBI). The total juvenile crime figures that will be used are the Part I and II offenses reported in the most recent UCR. The Part I and II offenses that are reported in the UCR are enumerated and defined in Appendix II of the UCR. In the event that an applicant does not provide annual data to the FBI for purposes of the UCR, the applicant should contact the G.R.E.A.T. Branch to determine how it can best submit information to measure its youth crime statistics. ATF will obtain the juvenile crime figures directly from the FBI. An applicant must indicate which service area (i.e., city, county, etc.) ATF should use to obtain their juvenile crime figures. An applicant will receive a score based on its per capita juvenile crime figures, as computed using the most recent UCR.

Criterion 2. This criterion will measure middle school participation and consists of two sections, Section A and Section B.

Section A. An applicant will receive points based on the percentage of middle school students proposed to be taught G.R.E.A.T. compared to the total population of middle school students in the jurisdiction.

Section B. An applicant will receive points based on the percentage of middle school students that were taught G.R.E.A.T. in the last school year compared to last year's total population of middle school students.

Criterion 3. This criterion is used to identify applicants who currently have life skills programs in place that reinforce the effectiveness of the G.R.E.A.T. middle school core curriculum. Applicants will be asked to identify elementary, middle and high school programs that they have, as well as other summer, parent/family and after school programs. Applicants will need to include a narrative describing their programs and identify which life skills are being taught. This criterion will also identify applicants who have fostered community partnerships in order to enhance their local programs.

Criterion 4. This criterion will measure the applicant's commitment to their local G.R.E.A.T. Program and to the administration of the National G.R.E.A.T. Program. This criterion will consist of Sections A and B.

Section A. This section will compare the total officer staff-hours currently spent teaching the G.R.E.A.T. Program (to include classroom time, preparation, parent programs, and the summer component) in relation to the applicant's total full-time, officer staff.

Section B. This section will recognize applicants who regularly participate in G.R.E.A.T. sponsored committees, workshops, seminars, and/or have supplied National Training Team members for G.R.E.A.T. officer training.

Catalog of Federal Domestic Assistance (CFDA)

For the purpose of tracking Federal funds used in grants and cooperative agreements, the G.R.E.A.T. Program has been assigned the CFDA # 21.053.

Paperwork Reduction Act

The collection of information contained in this notice has been approved by the Office of Management and Budget (0MB) in accordance with the Paperwork Reduction Act (44 U.S.C. 3507(d)) under control number 1512-0548.

An agency may not conduct or sponsor, and a person is not required to respond to, a collection of information unless the collection of information displays a valid 0MB control number.

Authority and Issuance

This notice is issued pursuant to Office of Management and Budget Circular No. A-102 (Grants and Cooperative Agreements with State and Local Governments).

Approved: May 31, 2000.
Bradley A. Buckles,
Director.

[FR Doc. 00-14824 Filed 6-12-00; 8:45 am]

BILLING CODE 4810-31-P